DEPARTMENT OF AGRICULTURE

Food and Nutrition Service

Agency Information Collection Activities: Proposed Collection; Comment Request: Uniform Grant Application Package for Discretionary Grant Programs

AGENCY: Food and Nutrition Service, USDA.

ACTION: Notice.

SUMMARY: In accordance with the Paperwork Reduction Act of 1995, this notice invites the general public and other public agencies to comment on proposed information collections. The proposed collection is a revision and extension of a currently approved collection.

The purpose of the Uniform Grant Application Package for Discretionary Grant Programs is to provide a standardized format for the development of all Requests for Applications released by the Food and Nutrition Service (FNS) Agency and to allow for a more expeditious OMB clearance process.

DATES: Written comments must be submitted on or before October 20, 2008.

ADDRESSES: Comments are invited on (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to Lael J. Lubing, Grants Management Division, U.S. Department of Agriculture, Food and Nutrition Service, 3101 Park Center Drive, Room 732, Alexandria, VA 22302. Comments may also be submitted via fax to the attention of Lael J. Lubing at 703-605-0363 or via e-mail to lael.lubing@fns.usda.gov.

All written comments will be open for public inspection at the office of the Food and Nutrition Service during regular business hours (8:30 a.m. to 5 p.m. Monday through Friday) at 3101 Park Center Drive, Alexandria, Virginia 22302, Room 732.

All responses to this notice will be summarized and included in the request for OMB approval. All comments will also be a matter of public record.

FOR FURTHER INFORMATION CONTACT: Requests for additional information or copies of the information collection form and instruction should be directed to Lael J. Lubing on (703) 305-2048.

SUPPLEMENTARY INFORMATION: Title: Uniform Grant Application Package for Discretionary Grant Programs.

OMB Number: 0584-0512.

Expiration Date: November 30, 2008.

Type of Request: Revision of the previously approved collection of information.

Abstract: FNS has a number of discretionary grant programs. (Consistent with the definition in 7 CFR Part 3016, the term “grant” as used in this notice includes cooperative agreements.) The authorities for these grants vary and will be cited as part of each grant application solicitation. The purpose of the revision to the currently approved collection for the Uniform Grant Application Package for Discretionary Grant Programs is to continue the authority for the established uniform grant application package and to update the number of collection hours. The uniform collection package is useable for all of FNS' discretionary grant programs to collect information from grant applicants that is needed to evaluate and rank applicants and protect the integrity of the grantee selection process. All FNS discretionary grant programs will be eligible, but not required, to use the uniform grant application package. Before soliciting applications for a discretionary grant program, FNS will decide whether the uniform grant application package will meet the needs of that grant program. If FNS decides to use the uniform grant application package, FNS will note in the grant solicitation that applicants must use the uniform grant application package and that the information collection has already been approved by OMB. If FNS decides not to use the uniform grant application package or determines that it needs grant applicants to provide additional information not contained in the uniform package, then FNS will publish a notice soliciting comments on its proposal to collect different or additional information before making the grant solicitation.

The uniform grant application package will include general information and instructions; a checklist; a requirement for the program narrative statement describing how the grant objectives will be reached; the Standard Form (SF) 424 series that requests basic information, budget information, a lobbying certification and an optional survey form to ensure equal opportunity for applicants. The proposed information collection covered by this notice is related to the requirements for the program narrative statement. The requirements for the program narrative statement are based on the requirements for program narrative statements described in section 1c(5) of the OMB Circular A-102, and will apply to all types of grantees—State and local governments, Indian Tribal Organizations, Non-Profit Organizations, Institutions of Higher Education, Hospitals and For-Profit Organizations. The information collection burden related to the SF-424 series, lobbying certification and the optional survey form for all applicants have been separately approved by OMB.

Affected Public: State and local governments, Indian Tribal Organizations, Non-Profit Organizations, Institutions of Higher Education, Hospitals, and For-Profit Organizations.

Estimated Number of Respondents: 315.

Number of Responses per Respondent: 1.5.

Estimated Total Annual Responses: 472.5.

Hours per Response: 66.

Number of Record Keepers: 315.

Estimated Annual Hours per Record Keepers: 66.

Total Record Keeping Hours: 31,185.

Total Annual Reporting Hours: 31,185.

Dated: August 12, 2008.
Roberto Salazar,
Administrator, Food and Nutrition Service.

[FR Doc. E8-19269 Filed 8-19-08; 8:45 am]

BILLING CODE 3410-30-P